DEPARTMENT OF COMMERCE

National Oceanic and Atmospheric Administration

50 CFR Part 648

[I.D. 020503A]

Fisheries of the Northeastern United States; Spiny Dogfish Fishery; Scoping Process; Correction

AGENCY: National Marine Fisheries Service (NMFS), National Oceanic and Atmospheric Administration (NOAA), Commerce.

ACTION: Notice of intent to prepare an environmental impact statement (EIS); notice of scoping meeting; request for comments; correction.

SUMMARY: NMFS published a notification announcing that the Mid-Atlantic and New England Fishery Management Councils (Councils) intended to prepare jointly, in cooperation with NMFS, an EIS in accordance with the National Environmental Policy Act to assess potential effects on the human environment of alternative measures for managing the spiny dogfish (Squalus acanthias) fishery pursuant to the Magnuson-Stevens Fishery Conservation and Management Act (MSFCMA). The Councils are developing Amendment 1 to the Spiny Dogfish Fishery Management Plan (FMP) to address rebuilding targets and timeframes, methods to estimate discard mortality and reduce discarding, the quota allocation scheme, and other potential management measures as well. The notification announced a public process for determining the scope of issues to be addressed and for identifying the significant issues relating to management of spiny dogfish and requested public participation in the process. The intent of this document is to correct the date of the scoping meeting announced in the February 18, 2003, published notification.

FOR FURTHER INFORMATION CONTACT: Mr. Daniel T. Furlong, Mid-Atlantic Fishery Management Council, 302-674-2331.

SUPPLEMENTARY INFORMATION: On February 18, 2003, NMFS published the notice of intent to prepare an EIS in the Federal Register (68 FR 7749). In addition to issues related to the preparation of the EIS, NMFS announced a scoping meeting to be held on Monday, March 17, 2003, at 7 p.m., at the Sheraton Oceanfront Hotel (36th Street & Atlantic Ave.), in Virginia Beach, VA. This document corrects the date of the scoping meeting from March 17, 2003, to March 18, 2003, at 7 p.m. at the same location.

Need for Correction

As published, the document of February 18, 2003 (68 FR 7740), which was the subject of document FR Doc. 03-3845, is corrected as follows:

1. On page 7749, third column, under DATES, third line, remove “Monday, March 17,” and add “Tuesday, March 18,” in its place.

2. On page 7749, third column, second paragraph, under ADDRESSES, second line, remove “March 17, “ and add “March 18,” in its place.

3. On page 7750, second column, under Public Scoping Meeting Schedule, third line down, remove “March 17” and insert “March 18”.

Authority: 16 U.S.C. 1801 et seq.

Dated: February 24, 2003.
Bruce C. Morehead,
Acting Director, Office of Sustainable Fisheries, National Marine Fisheries Service.

[FR Doc. 03-4821 Filed 2-28-03; 8:45 am]

BILLING CODE 3510-22-S